NATIONAL CREDIT UNION ADMINISTRATION

Agency Information Collection Activities: Corporate Credit Union Monthly Call Report

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). The purpose of this notice is to allow for 60 days of public comment.

This action relates to the monthly submission of information by corporate credit unions. This information is used by the NCUA to monitor the financial conditions of those credit unions.

DATES: Comments will be accepted until August 5, 2016.

ADDRESSES: Interested persons are invited to submit written comments on the information collection to Troy Hillier, National Credit Union Administration, 1775 Duke Street, Alexandria, Virginia 22314-3428; Fax No. 703-519-8595; or Email at PRAComments@NCUA.gov.

FOR FURTHER INFORMATION CONTACT: Requests for additional information should be directed to the address above.

SUPPLEMENTARY INFORMATION:

OMB Number: 3133-0067.

Title: Corporate Credit Union Monthly Call Report.

Abstract: NCUA is modifying the instrument for collecting call report data from corporate credit unions. This information is currently collected through a standalone application that requires manual input of data by respondents. NCUA is updating its systems to allow this information to be provided through an online portal in a way that allows respondents to automate the submission of this data. This will significantly reduce the burden associated with this collection.

Through this action, the NCUA is also combining two currently approved collections—the monthly call report (OMB Number 3133-0067) and the annual report of officials (OMB Number 3133-0053). These collections will both be submitted through the same online portal and the combination of the two collections under a single control number is consistent with the treatment of this data for natural person credit unions (OMB Number 3133-0004).

Type of Review: Revision of a currently approved collection.

Affected Public: Private sector: not-for-profit institutions.

Estimated No. of Respondents: 12.

Frequency of Response: 13 responses per year per respondent.

Estimated Burden Hours per Response: 4.

Estimated Total Annual Burden Hours: 624 burden hours.

Request for Comments: Comments submitted in response to this notice will be summarized and included in the request for Office of Management and Budget approval. All comments will become a matter of public record. The public is invited to submit comments concerning: (a) Whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on June 1, 2016.
Dated: June 1, 2016.
Dawn D. Wolfgang,
NCUA PRA Clearance Officer.

[FR Doc. 2016-13283 Filed 6-3-16; 8:45 am]

BILLING CODE 7535-01-P